DEPARTMENT OF DEFENSE

Office of the Secretary

[Docket ID DOD-2009-HA-0155]

Proposed Collection; Comment Request

AGENCY: Office of the Assistant Secretary of Defense for Health Affairs, DoD.

ACTION: Notice.

SUMMARY: In compliance with section 3506(c)(2)(A) of the Paperwork Reduction Act of 1995, the Office of the Assistant Secretary of Defense for Health Affairs announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 29, 2009.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Assistant Secretary of Defense (Health Affairs), Force Health Protection and Readiness, Psychological Health Strategic Operations, Attn: Dr. Jill Carty, Falls Church, VA 22041-3258, or call Dr. Jill Carty at (703) 845-3317.

Title; Associated Form; and MB Number: Retention of Behavioral Health Providers Survey and Focus Groups; OMB Control Number 0720-TBD.

Needs and Uses: The Force Health Protection and Readiness (FHP&R) program has hired Lockheed Martin to develop and implement a survey instrument to evaluate retention of behavioral health providers (psychiatrists and psychologists). Lockheed Martin is working with a subcontractor, Mathematica Policy Research, whose staff will help with the survey data collection for this project.

Affected Public: Former psychiatrists and psychologists who served in the military.

Annual Burden Hours: 200.

Number of Respondents: 800.

Responses per Respondent: 1.

Average Burden per Response: 15 minutes.

Frequency: One time.

SUPPLEMENTARY INFORMATION:

Summary of Information Collection

The survey will targeted to current psychiatrists and psychologists from the Army, Navy, and Air Force, as well as former Army, Navy, and Air Force psychiatrists and psychologists who left the military in fiscal year 2006, 2007, or 2008 for reasons other than retirement. Participation is voluntary and confidential. All identifying information will be removed before results are sent to the Department of Defense. Only group statistics will be compiled and shared. No individual information will be disclosed.

Information collected will include type of behavioral health provider, importance of different factors influencing decision to join the military, deployment information, ratings of military mental health treatment, salary information, satisfaction with being a military mental health provider, overall health status, and demographic information. Former providers also will be surveyed about reasons for leaving the military, current work status, satisfaction with current employment and salary information, potential influences that could have extended military service. Current providers also will be surveyed about reasons that might influence decision to extend military service, first and last name, rank, type of behavioral health provider, date left service (if former provider), mailing address, e-mail address, phone number (home and cell), and installation/last installation.

The survey will be distributed for completion on the Web via e-mail. For individuals where a valid e-mail address cannot be found, a paper copy of the survey with a prepaid return envelope will be mailed.

The methodology, results, and recommendations will be summarized via a report for TMA. Policy recommendations will include suggestions of methods to incentivize service members to remain in service.

Dated: October 23, 2009.
Patricia L. Toppings,
OSD Federal Register Liaison Officer, Department of Defense.

[FR Doc. E9-26184 Filed 10-29-09; 8:45 am]

BILLING CODE 5001-06-P